DEPARTMENT OF TRANSPORTATION

Federal Aviation Administration

14 CFR Part 39

[Docket No. FAA-2007-28748; Directorate Identifier 2007-NM-115-AD; Amendment 39-15537; AD 2008-11-14]

RIN 2120-AA64

Airworthiness Directives; McDonnell Douglas Model DC-10-10F, DC-10-30F (KC-10A and KDC-10), DC-10-40F, MD-10-10F, and MD-10-30F Airplanes; and Model MD-11 and MD-11F Airplanes

AGENCY: Federal Aviation Administration (FAA), DOT.

ACTION: Final rule.

SUMMARY: We are adopting a new airworthiness directive (AD) for certain McDonnell Douglas Model DC-10-10F, DC-10-30F (KC-10A and KDC-10), DC-10-40F, MD-10-10F, and MD-10-30F airplanes; and Model MD-11 and MD-11F airplanes. This AD requires installation of control cable freeze protection by making certain changes. This AD results from reports of standing water on the horizontal pressure panel above the main and center landing gear wheel wells. We are issuing this AD to prevent the accumulation of ice on the flight control cables in the wheel wells. When the landing gear doors open or vibration in this area occurs, such ice accumulation could break off and can cause injury to people or damage to property on the ground, can affect landing gear controls and rear spar flight control systems, can cause damage to other control systems, and might cause loss of control of the airplane.

DATES: This AD is effective July 3, 2008.

The Director of the Federal Register approved the incorporation by reference of certain publications listed in this AD as of July 3, 2008.

ADDRESSES: For service information identified in this AD, contact Boeing Commercial Airplanes, Long Beach Division, 3855 Lakewood Boulevard, Long Beach, California 90846, Attention: Data and Service Management, Dept. C1-L5A (D800-0024).

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Ken Sujishi, Aerospace Engineer, Cabin Safety/Mechanical and Environmental Systems Branch, ANM-150L, FAA, Los Angeles Aircraft Certification Office, 3960 Paramount Boulevard, Lakewood, California 90712-4137; telephone (562) 627-5353; fax (562) 627-5210.

SUPPLEMENTARY INFORMATION:

Discussion

We issued a notice of proposed rulemaking (NPRM) to amend 14 CFR part 39 to include an airworthiness directive (AD) that would apply to certain McDonnell Douglas Model DC-10-10, DC-10-10F, DC-10-30F (KC-10A and KDC-10), DC-10-40F, MD-10-10F, and MD-10-30F airplanes; and Model MD-11 and MD-11F airplanes. That NPRM was published in the Federal Register on July 23, 2007 (72 FR 40094). That NPRM proposed to require installation of control cable freeze protection by making certain changes.

Comments

We gave the public the opportunity to participate in developing this AD. We considered the comments received from the two commenters.

Request To Delay Issuance of Final Rule

FedEx and Boeing request that we delay issuance of the final rule until Boeing releases a revision to Boeing Alert Service Bulletin DC10-27A237, dated January 9, 2007 (referred to as an appropriate source of service information for accomplishing the actions specified in the NPRM), and to Drawing SR11530052, and necessary parts are available. FedEx notes that Boeing released Information Notice DC10-27A237 IN 01, dated August 8, 2007, which indicates that the procedures specified in Boeing Alert Service Bulletin DC10-27A237 for Model DC-10-10F and MD-10-10F airplanes cannot be done. Boeing states that the engineering provided in Drawing SR11530052, which is referred to in Boeing Alert Service Bulletin DC10-27A237, does not reflect the existing structural configuration used on Model DC-10-10F and MD-10-10F airplanes.

Since issuance of the NPRM, we have reviewed Boeing Alert Service Bulletin DC10-27A237, Revision 1, dated December 20, 2007. Revision 1 revises Drawing SR11530052 to account for different panel configurations on Model DC-10-10F and MD-10-10F airplanes and adds airplane groups for those affected airplanes. Revision 1 also removes Model DC-10-10 airplanes, which are not subject to the identified unsafe condition of this AD. No more work is necessary on Model DC-10-30F (KC-10A and KDC-10), DC-10-40F, MD-10-10F, and MD-10-30F airplanes changed in accordance with Boeing Alert Service Bulletin DC10-27A237, dated January 9, 2007.

Therefore, we have revised this AD to refer to Boeing Alert Service Bulletin DC10-27A237, Revision 1, as an appropriate source of service information for accomplishing the required actions and identifying the affected airplanes. We also have added a new paragraph (g) of this AD to give credit for actions done before the effective date of this AD according to Boeing Alert Service Bulletin DC10-27A237, dated January 9, 2007, and redesignated subsequent paragraphs of the AD accordingly. In addition, we have removed Model DC-10-10 airplanes from the applicability of this AD.

In addition, according to Boeing, an ample number of required parts will be available to modify the U.S. fleet within the compliance time. However, according to the provisions of paragraph (h) of the final rule, we may approve requests to adjust the compliance time if the request includes data that prove that the new compliance time would provide an acceptable level of safety.

Request To Add Repair for Damaged Seals

FedEx requests that a repair for any damaged seal, part number ADA3211-125, be included in the NPRM or the next revision of Boeing Alert Service Bulletin DC10-27A237, dated January 9, 2007. FedEx notes that Boeing issued Information Notices DC10-27A237 IN 01 and MD11-27A084 IN 02, both dated August 8, 2007, which indicate that a fix for damaged seals is forthcoming.

We do not agree. Since issuance of Information Notices DC10-27A237 IN 01 and MD11-27A084 IN 02, Boeing issued MD11-27A084 IN 03, dated December 14, 2007, and Boeing Alert Service Bulletin DC10-27A237, Revision 1, as described previously. Both of these documents state that repairs for damaged seals will be included in the DC10/MD10 Structural Repair Manuals (SRM). In addition, Boeing has received reports that, in certain cases, the seal, which is installed in accordance with Boeing Alert Service Bulletin DC10-27A237, is being damaged after installation as a result of being stepped on during maintenance. Therefore, there is no effect on accomplishing the requirements of this AD. We have not revised the AD in this regard.

Request To Provide Blanket Approval

FedEx requests that we provide blanket approval for operators who modified the installation as shown in View L of Boeing Drawing SR11530052 (for Model DC-10-30F (KC-10A and KDC-10) and Model MD-10-30F airplanes) to fit Model DC-10-10F and MD-10-10F airplanes. FedEx states that blanket approval to modify the size, shape, and location of the angles and to shim would be helpful to any operators who have already done so.

We do not agree. FedEx did not provide us with any data supporting their request for such an approval. In addition, we have determined that accomplishing the actions specified in Boeing Alert Service Bulletin DC10-27A237, Revision 1, will adequately address the identified unsafe condition of this AD. However, under the provisions of paragraph (h) of this AD, we might consider requests for approval of an alternative method of compliance (AMOC) if sufficient data are submitted to substantiate that such a design change would provide an acceptable level of safety. We have made no change to the AD in this regard.

Request To Refer to Correct Drawing

FedEx requests that the NPRM be revised to refer to Drawing SR10270026, or that we verify that the incorrect drawing number (i.e., Drawing SR11270026) in Step 3 of the Work Instructions is corrected in the next revision to Boeing Alert Service Bulletin DC10-27A237, dated January 9, 2007.

We do not agree to refer to the subject drawing in the AD. As discussed previously, we have reviewed Boeing Alert Service Bulletin DC10-27A237, Revision 1, and have revised this AD to include that service bulletin revision as an appropriate source of service information for accomplishing the required actions. The incorrect drawing number has been corrected in the service bulletin.

Conclusion

We reviewed the relevant data, considered the comments received, and determined that air safety and the public interest require adopting the AD with the changes described previously. We also determined that these changes will not increase the economic burden on any operator or increase the scope of the AD.

Costs of Compliance

There are about 387 airplanes of the affected design in the worldwide fleet. This AD affects about 283 airplanes of U.S. registry. The actions take about 40 work hours per airplane, at an average labor rate of $80 per work hour. Required parts cost about $5,896 or $6,073 per airplane depending on the airplane configuration. Based on these figures, the estimated cost of the AD for U.S. operators is between $2,574,168 and $2,624,259, or $9,096 or $9,273 per airplane depending on the airplane configuration.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979), and

(3) Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-11-14 McDonnell Douglas: Amendment 39-15537. Docket No. FAA-2007-28748; Directorate Identifier 2007-NM-115-AD.

Effective Date

(a) This airworthiness directive (AD) is effective July 3, 2008.

Affected ADs

(b) None.

Applicability

(c) This AD applies to airplanes identified in Table 1 of this AD, certificated in any category.

Table 1.—Applicability
McDonnell Douglas model— | As identified in Boeing Alert Service Bulletin—
(1) DC-10-10F, DC-10-30F (KC-10A and KDC-10), DC-10-40F, MD-10-10F, and MD-10-30F airplanes | DC10-27A237, Revision 1, dated December 20, 2007.
(2) MD-11 and MD-11F airplanes | MD11-27A084, Revision 1, dated March 26, 2007.

Unsafe Condition

(d) This AD results from reports of standing water on the horizontal pressure panel above the main and center landing gear wheel wells. We are issuing this AD to prevent the accumulation of ice on the flight control cables in the wheel wells. When the landing gear doors open or vibration in this area occurs, such ice accumulation could break off and can cause injury to people or damage to property on the ground, can affect landing gear controls and rear spar flight control systems, can cause damage to other control systems, and might cause loss of control of the airplane.

Compliance

(e) You are responsible for having the actions required by this AD performed within the compliance times specified, unless the actions have already been done.

Installation of Control Cable Freeze Protection

(f) Within 24 months after the effective date of this AD, install control cable freeze protection by making the changes specified in and in accordance with the Accomplishment Instructions of the applicable service bulletin identified in Table 1 of this AD.

(g) For Model DC-10-30F (KC-10A and KDC-10), DC-10-40F, MD-10-10F, and MD-10-30F airplanes: Installations done before the effective date of this AD in accordance with Boeing Alert Service Bulletin DC10-27A237, dated January 9, 2007, are acceptable for compliance with the requirements of paragraph (f) of this AD.

Alternative Methods of Compliance (AMOCs)

(h)(1) The Manager, Los Angeles Aircraft Certification Office (ACO), FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Material Incorporated by Reference

(i) You must use Boeing Alert Service Bulletin DC10-27A237, Revision 1, dated December 20, 2007; or Boeing Alert Service Bulletin MD11-27A084, Revision 1, dated March 26, 2007; to do the actions required by this AD, unless the AD specifies otherwise.

(1) The Director of the Federal Register approved the incorporation by reference of this service information under 5 U.S.C. 552(a) and 1 CFR part 51.

(2) For service information identified in this AD, contact Boeing Commercial Airplanes, Long Beach Division, 3855 Lakewood Boulevard, Long Beach, California 90846, Attention: Data and Service Management, Dept. C1-L5A (D800-0024).

(3) You may review copies of the service information incorporated by reference at the FAA, Transport Airplane Directorate, 1601 Lind Avenue, SW., Renton, Washington; or at the National Archives and Records Administration (NARA). For information on the availability of this material at NARA, call 202-741-6030, or go to: http://www.archives.gov/federal_register/code_of_federal_regulations/ibr_locations.html.

Issued in Renton, Washington, on May 14, 2008.
Ali Bahrami,
Manager, Transport Airplane Directorate, Aircraft Certification Service.

[FR Doc. E8-11465 Filed 5-28-08; 8:45 am]

BILLING CODE 4910-13-P